DEPARTMENT OF COMMERCE

International Trade Administration

[A-427-818]

Low-Enriched Uranium From France: Final Results of Antidumping Duty Administrative Review; 2012-2013

AGENCY: Enforcement and Compliance, International Trade Administration, Department of Commerce.

SUMMARY: On March 24, 2014, the Department of Commerce (the Department) published the preliminary results of the administrative review of the antidumping duty order on low-enriched uranium (LEU) from France.¹ The review covers one producer or exporter of the subject merchandise, Eurodif S.A., AREVA NC, and AREVA NC, Inc. (collectively AREVA). The Department determines that AREVA made no shipments of subject merchandise during the POR.

¹ See Low Enriched Uranium from France; Preliminary Results of Antidumping Duty Administrative Review; 2012-2013, 79 FR 15955 (March 24, 2014) (Preliminary Results).

DATES: Effective Date: September 29, 2014.

FOR FURTHER INFORMATION CONTACT: Andrew Huston, AD/CVD Operations, Office VII, Enforcement and Compliance, International Trade Administration, U.S. Department of Commerce, 14th Street and Constitution Avenue NW., Washington, DC 20230; telephone: (202) 482-4261.

SUPPLEMENTARY INFORMATION:

Background

Since the Preliminary Results, the following events have taken place: the Department received timely case briefs from USEC Inc., and the United States Enrichment Corporation (collectively Petitioners), and AREVA on April 23, 2014. Petitioners, AREVA, and Global Nuclear Fuel—Americas, filed timely rebuttal briefs on April 28, 2014.

Period of Review

The period of review (POR) is February 1, 2012, through January 31, 2013.

Scope of the Order

The product covered by the order is all low-enriched uranium. Low-enriched uranium is enriched uranium hexafluoride (UF6) with a U²³⁵ product assay of less than 20 percent that has not been converted into another chemical form, such as UO2, or fabricated into nuclear fuel assemblies, regardless of the means by which the LEU is produced (including low-enriched uranium produced through the down-blending of highly enriched uranium).²

² For a full description of the scope of the order, see “Decision Memorandum for the Final Results of Antidumping Duty Administrative Review: Low-Enriched Uranium from France: 2012-2013” from Christian Marsh, Deputy Assistant Secretary for Antidumping and Countervailing Duty Operations to Paul Piquado, Assistant Secretary for Enforcement and Compliance (Issues and Decision Memorandum), dated concurrently with these results and herby adopted by this notice.

Analysis of Comments Received

All issues raised by the parties in the case and rebuttal briefs are addressed in the Issues and Decision Memorandum. A list of the issues addressed in the Issues and Decision Memorandum is appended to this notice. The Issues and Decision Memorandum is a public document and is available electronically via Enforcement and Compliance's Antidumping and Countervailing Duty Centralized Electronic Services System (IA ACCESS). IA ACCESS is available to registered users at http://iaacess.trade.gov, and it is available to all parties in the Central Records Unit of the main Commerce Building, room 7046. In addition, a complete version of the Issues and Decision Memorandum is also accessible on the internet at http://enforcement.trade.gov/frn/index.html. The signed Issues and Decision Memorandum and the electronic versions of the Issues and Decision Memorandum are identical in content.

Changes Since the Preliminary Results

There has been no change to the Department's preliminary decision that AREVA had no shipments subject to the antidumping duty order. We revised the entry requirements and review process for merchandise conditionally excluded from the scope of the order, as discussed in the Issues and Decision Memorandum.³

³ See Comment 3 and “Suspension of Liquidation” section of the Issues and Decision Memorandum.

Determination of No Shipments

We determine that AREVA had no shipments of merchandise subject to the antidumping duty order on LEU from France during the POR.

Determination of Revised Entry Requirements

To ensure proper enforcement of the order, the Department now determines that it is appropriate to suspend liquidation for shipments of LEU from France that previously entered without the suspension of liquidation. Such entries will be suspended, effective the date of publication of these final results of review, and cash deposits of estimated antidumping duties will be required, at a rate of zero percent ad valorem. Such entries will be examined and liquidated in accordance with the procedures described in the Issues and Decision Memorandum.⁴

⁴ Id.

Assessment Rates

Since the Department found that AREVA had no shipments during the POR, we did not calculate importer-specific assessment rates.

The Department clarified its “automatic assessment” regulation on May 6, 2003. This clarification will apply to entries of subject merchandise during the POR produced by companies included in the final results of review for which these companies did not know that the merchandise was destined for the United States. In such instances, we will instruct U.S. Customs and Border Protection (CBP) to liquidate un-reviewed entries at the all-others rate if there is no rate for the intermediate company(ies) involved in the transaction.⁵

⁵ See Antidumping and Countervailing Duty Proceedings: Assessment of Antidumping Duties, 68 FR 23954 (May 6, 2003).

We intend to issue instructions to CBP 15 days after publication of the final results of this review.

Cash Deposit Requirements

The following deposit requirements will be effective for all shipments of LEU from France entered, or withdrawn from warehouse, for consumption on or after the date of publication of the final results of this administrative review, as provided for by section 751(a)(2)(C) of the Act: (1) The cash deposit rate for AREVA will remain unchanged from the rate assigned to the company in the most recently completed review of that company, except for entries for which the importer claims to be excluded from the order under the re-export provision of the scope, which will require a cash deposit rate of zero percent; (2) for previously reviewed or investigated companies not listed above, the cash deposit rate will continue to be the company-specific rate published for the most recent period with a completed segment of this proceeding; (3) if the exporter is not a firm covered in this review, a prior review, or the less-than-fair-value investigation, but the manufacturer is, the cash deposit rate will be the rate established for the most recent period with a completed segment of this proceeding for the manufacturer of the merchandise; and (4) the cash deposit rate for all other manufacturers or exporters will continue to be 19.95 percent, the all-others rate established in the investigation.⁶ Entries accompanied by certifications from the exporter, the importer, and the end user, indicating that the LEU will be re-exported within 18 months will be subject to a cash deposit requirement of zero percent ad valorem. These cash deposit requirements, when imposed, shall remain in effect until further notice.

⁶ See Notice of Amended Final Determination of Sales at Less Than Fair Value and Antidumping Duty Order: Low Enriched Uranium From France, 67 FR 6680 (February 13, 2002).

Notification Regarding Administrative Protective Orders

This notice is the only reminder to parties subject to the administrative protective order (APO) of their responsibility concerning the return or destruction of proprietary information disclosed under the APO in accordance with 19 CFR 351.305(a)(3), which continues to govern business proprietary information in this segment of the proceeding. Timely written notification of the return or destruction of APO materials, or conversion to judicial protective order, is hereby requested. Failure to comply with the regulations and the terms of an APO is a sanctionable violation.

Notification to Importers

This notice serves as a final reminder to the importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Notification to Interested Parties

These final results of administrative review are issued and published in accordance with sections 751(a)(1) and 777(i)(1) of the Act.

Dated: September 22, 2014.
Paul Piquado,
Assistant Secretary for Enforcement and Compliance.

Appendix

Issues in the Issues and Decision Memorandum

I. Summary

II. Background

III. Scope of the Order

IV. Discussion of the Issues

Comment 1: Preliminary Finding of “No Shipments”

Comment 2: Filing of Entry Documents

Comment 3: Administrative Review Process for Merchandise Conditionally Excluded From the Scope of the Order

V. Determination of No Shipments

VI. Revised Entry Requirements

VII. Recommendation

[FR Doc. 2014-23133 Filed 9-26-14; 8:45 am]

BILLING CODE 3510-DS-P